DEPARTMENT OF COMMERCE

National Oceanic and Atmospheric Administration

RIN 0648-XG070

Endangered and Threatened Species; Take of Anadromous Fish

AGENCY: National Marine Fisheries Service (NMFS), National Oceanic and Atmospheric Administration (NOAA), Commerce.

ACTION: Notice.

SUMMARY: This notice advises the public that a direct take permit has been issued pursuant to section 10(a)(1)(A) of the Endangered Species Act of 1973 (ESA) for a program rearing and releasing summer steelhead in the Wenatchee River basin of Washington state (Columbia River basin). The permit is issued to the Public Utility District of Chelan County and the Washington Department of Fish and Wildlife.

DATES: The permit was issued on December 26, 2017, subject to certain conditions set forth therein. Subsequent to issuance, the necessary countersignatures by the applicants were received. The permit expires on December 31, 2027.

ADDRESSES: Requests for copies of the decision documents or any of the other associated documents should be addressed to the NMFS Sustainable Fisheries Division, 1201 NE Lloyd Blvd. #1100, Portland, OR 97232.

FOR FURTHER INFORMATION CONTACT: Emi Kondo at (503) 736-4739 or by email at emi.kondo@noaa.gov.

SUPPLEMENTARY INFORMATION: This notice is relevant to the following species and evolutionarily significant unit (ESU)/distinct population segment (DPS):

Steelhead (O. mykiss): Threatened, naturally produced and artificially propagated Upper Columbia River.

Authority: 16 U.S.C. 1531 et seq.

Dated: March 8, 2018.
Donna S. Wieting,
Director, Office of Protected Resources, National Marine Fisheries Service.

[FR Doc. 2018-05027 Filed 3-12-18; 8:45 am]

BILLING CODE 3510-22-P